DEPARTMENT OF AGRICULTURE

Forest Service

Newspapers Used for Publication of Legal Notices by the Intermountain Region, Utah, Idaho, Nevada, and Wyoming

AGENCY: Forest Service, Agriculture (USDA).

ACTION: Notice of newspapers of record.

SUMMARY: This notice lists the newspapers that will be used by the ranger districts, national forests, and the regional office of the Intermountain Region to publish legal notices required under the Code of Federal Regulations (CFR). The intended effect of this action is to inform interested members of the public which newspapers the Forest Service will use to publish notices of proposed actions and notices of decision. This will provide the public with constructive notice of Forest Service proposals and decisions, provide information on the procedures to comment, object or appeal, and establish the date that the Forest Service will use to determine if comments or appeals/objections were timely.

DATES: The list of newspapers will remain in effect for one year from the date of publication, when another notice will be published in the Federal Register.

ADDRESSES: Judd Sampson, Regional Objections Coordinator, Intermountain Region, 324 25th Street, Ogden, UT 84401.

FOR FURTHER INFORMATION CONTACT: Judd Sampson, Regional Objections Coordinator, Intermountain Region, by telephone at 602-525-1914 or by email at judd.sampson@usda.gov.

SUPPLEMENTARY INFORMATION: The administrative procedures at 36 CFR 214, 218, and 219 require the Forest Service to publish notices in a newspaper of general circulation. The content of the notices is specified in 36 CFR 214, 218, and 219. In general, the notices will identify: the decision or project, by title or subject matter; the name and title of the official making the decision; how to obtain additional information; and where and how to file comments or appeals/objections. The date the notice is published will be used to establish the official date for the beginning of the comment or appeal/objection period.

The newspapers to be used are as follows:

Regional Forester, Intermountain Region

Regional Forester decisions affecting National Forests in Idaho: Idaho Statesman.

Regional Forester decisions affecting National Forests in Nevada: Reno Gazette-Journal.

Regional Forester decisions affecting National Forests in Wyoming: Casper Star-Tribune.

Regional Forester decisions affecting National Forests in Utah: Salt Lake Tribune.

Regional Forester decisions that affect all National Forests in the Intermountain Region: Salt Lake Tribune.

Ashley National Forest

Ashley Forest Supervisor decisions: Vernal Express.

District Ranger decisions for Duchesne, Roosevelt: Uintah Basin Standard.

Flaming Gorge District Ranger for decisions affecting Wyoming: Rocket Miner.

Flaming Gorge and Vernal District Ranger for decisions affecting Utah: Vernal Express.

Boise National Forest

Boise Forest Supervisor decisions: Idaho Statesman.

Cascade District Ranger decisions: The Star-News.

Emmett District Ranger decisions: Emmett Messenger Index.

District Ranger decisions for Idaho City and Mountain Home Districts: Idaho Statesman.

Lowman District Ranger decisions: The Idaho World.

Bridger-Teton National Forest

Bridger-Teton Forest Supervisor and District Ranger decisions: Casper Star-Tribune.

Caribou-Targhee National Forest

Caribou-Targhee Forest Supervisor decisions for the Caribou portion: Idaho State Journal.

Caribou-Targhee Forest Supervisor decisions for the Targhee portion: Post Register.

District Ranger decisions for Ashton, Dubois, Island Park, Palisades, and Teton Basin: Post Register.

District Ranger decisions for Montpelier, Soda Springs, and Westside: Idaho State Journal.

Dixie National Forest

Dixie Forest Supervisor decisions: The Spectrum.

District Ranger decisions for Cedar City and Pine Valley: The Spectrum.

District Ranger decisions for Escalante and Powell: The Insider.

Decisions affecting the former Teasdale Ranger District area of the Dixie National Forest; now managed by the Fishlake National Forest Fremont River District Ranger: The Richfield Reaper.

Fishlake National Forest

Fishlake Forest Supervisor and District Ranger decisions: The Richfield Reaper.

Humboldt-Toiyabe National Forest

Humboldt-Toiyabe Forest Supervisor decisions that encompass all or portions of both the Humboldt and Toiyabe National Forests: Reno Gazette-Journal.

Humboldt-Toiyabe Forest Supervisor decisions for the Humboldt portion: Elko Daily Free Press.

Humboldt-Toiyabe Forest Supervisor decisions for the Toiyabe portion: Reno Gazette-Journal.

Austin-Tonopah District Ranger decisions: Reno Gazette-Journal.

Bridgeport District Ranger decisions: Reno Gazette-Journal.

Carson District Ranger decisions: Reno Gazette-Journal.

Ely District Ranger decisions: The Ely Times.

Mountain City, Ruby Mountains, and Jarbidge District Ranger decisions: Elko Daily Free Press.

Santa Rosa District Ranger decisions: Humboldt Sun.

Spring Mountains National Recreation Area District Ranger decisions: Las Vegas Review Journal.

Manti-La Sal National Forest

Manti-La Sal Forest Supervisor decisions: ETV News Sun Advocate (Emery Telcom).

Ferron District Ranger decisions: ETV News Progress (Emery Telcom).

Moab District Ranger decisions: The Times-Independent.

Monticello District Ranger decisions: San Juan Record.

Price District Ranger decisions: ETV News Sun Advocate (Emery Telcom).

Sanpete District Ranger decisions: Sanpete Messenger.

Payette National Forest

Payette Forest Supervisor decisions: Idaho Statesman.

Council District Ranger decisions: The Record Reporter.

District Ranger decisions for Krassel, McCall, and New Meadows: Star-News.

Weiser District Ranger decisions: Weiser Signal American.

Salmon-Challis National Forest

Salmon-Challis Forest Supervisor decisions for the Salmon portion: The Recorder-Herald.

Salmon-Challis Forest Supervisor decisions for the Challis portion: The Challis Messenger.

District Ranger decisions for Lost River, Middle Fork, and Challis-Yankee Fork: The Challis Messenger.

District Ranger decisions for Leadore, North Fork, and Salmon-Cobalt: The Recorder-Herald.

Sawtooth National Forest

Sawtooth Forest Supervisor decisions: Times-News.

District Ranger decisions for Fairfield and Minidoka: Times-News.

Ketchum District Ranger decisions: Idaho Mountain Express.

Sawtooth National Recreation Area: The Challis Messenger.

Uinta-Wasatch-Cache National Forest

Forest Supervisor decisions for the Uinta portion, including the Vernon Unit: Provo Daily Herald.

Forest Supervisor decisions for the Wasatch-Cache portion: Salt Lake Tribune.

Forest Supervisor decisions for the entire Uinta-Wasatch-Cache: Salt Lake Tribune.

District Ranger decisions for the Heber-Kamas, Pleasant Grove, and Spanish Fork Ranger Districts: Provo Daily Herald.

District Ranger decisions for Evanston and Mountain View: Uinta County Herald.

District Ranger decisions for Salt Lake: Salt Lake Tribune.

District Ranger decisions for Logan: Logan Herald Journal.

District Ranger decisions for Ogden: Standard Examiner.

Dated: August 2, 2023.
Troy Heithecker,
Associate Deputy Chief, National Forest System.

[FR Doc. 2023-21487 Filed 9-28-23; 8:45 am]

BILLING CODE 3411-15-P